DEPARTMENT OF COMMERCE

National Oceanic and Atmospheric Administration

RIN 0648-XA723

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Habitat and Environmental Protection Advisory Panel (AP) in Charleston, SC.

DATES: The meeting will take place November 15-16, 2011. See SUPPLEMENTARY INFORMATION for specific dates and times.

ADDRESSES: The meeting will be held at the Charleston Marriott Hotel, 170 Lockwood Blvd., Charleston, SC 29403; telephone: (800) 968-3569; fax: (843) 723-0276.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; e-mail: kim.iverson@safmc.net.

SUPPLEMENTARY INFORMATION: Members of the Habitat and Environmental Protection AP will meet from 9 a.m. until 5 p.m. on November 15, 2011 and from 8:30 a.m. until 5 p.m. on November 16, 2011.

The meeting will focus on further facilitating the Council's habitat conservation efforts, the move to ecosystem-based management strategies, and the regional applications of marine and spatial planning and management. Topics to be addressed at the meeting include: a regional mapping strategy based on managed species and habitat needs; an overview of fisheries' oceanography needs; and an identification of priority fish, fish habitat and fishery research needs required for a proposed alternative energy facility in the South Atlantic. The AP will initiate the development of support materials, revise conservation policies, and recommend management actions which implement fishing and non-fishing conservation provisions of the Magnuson-Stevens Act and the Fishery Management Plan that supports the Comprehensive Ecosystem-Based Amendments.

An Eco-Regional Partner Coordination meeting will be integrated with the AP meeting on November 16, 2011. Invited guests include representatives from: the Governors South Atlantic Alliance; the Southeast Aquatic Resource Partnership; the Southeast Coastal Ocean Observing Regional Association; the South Atlantic Landscape Conservation Cooperative; the USGS Southeast Climate Science Center; the Navy Fleet Forces Command; the Bureau of Ocean Energy Management, Regulation and Enforcement; and others. Topics to be addressed at the integrated meeting include: coordination of management initiatives between the Council and other agencies; and the development of a South Atlantic Habitat and Ecosystem Digital Dashboard, created in cooperation with the Florida Fish and Wildlife Research Institute.

Special Accommodations

These meetings are physically accessible to people with disabilities. Requests for auxiliary aids should be directed to the Council office (see ADDRESSES) 3 days prior to the meeting.

Note: The times and sequence specified in this agenda are subject to change.

Dated: September 21, 2011.
Tracey L. Thompson,
Acting Director, Office of Sustainable Fisheries, National Marine Fisheries Service.

[FR Doc. 2011-24591 Filed 9-23-11; 8:45 am]

BILLING CODE 3510-22-P